FEDERAL COMMUNICATIONS COMMISSION

Public Information Collections Approved by Office of Management and Budget

June 8, 2001.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0973.

Expiration Date: 11/30/2001.

Title: Section 64.1120(e) “ Sale or Transfer of Subscriber Base to Another Carrier (CC Dockets 00-257 and 94-129).

Form No.: N/A.

Respondents: Business or other for-profit.

Estimated Annual Burden: 75 respondents; 6 hours per response (avg.); 450 total annual burden hours (for all collections approved under this control number).

Estimated Annual Reporting and Recordkeeping Cost Burden: $0.

Frequency of Response: On occasion; Third Party Disclosure.

Description: In the First Report and Order in CC Docket No. 00-257 and the Fourth Report and Order in CC Docket No. 94-129 (Fourth Report and Order), the Commission amended section 64.1120 of its rules, as part of its biennial regulatory review effort, to establish a streamlined self-certification process for the carrier-to-carrier sale or transfer of subscriber bases, thereby eliminating the need to obtain a waiver of Commission rules prior to closing a transaction. This process is designed to ensure that the affected subscribers have adequate information about the carrier change in advance, that they are not financially harmed by the change, and that they will experience a seamless transition of service from their original carrier to the acquiring carrier. This process also will provide the Commission with information it needs to fulfill its consumer protection obligations. Pursuant to 64.1120(e), a telecommunications carrier may acquire, through a sale or transfer, either part or all of another telecommunications carrier's subscriber base without obtaining each subscriber's authorization and verification in accordance with Section 64.1120(c), provided that the acquiring carrier complies with the streamlined procedures set forth in Section 64.1120(e)(1) through (3). a. Section 64.1120(e)(1)-(2), Notification and Certification to the Commission. Pursuant to 47 CFR 64.1120(e)(1)-(3), no later than 30 days before the planned transfer of the affected subscribers from the selling or transferring carrier to the acquiring carrier, the acquiring carrier shall file with the Commission's Office of the Secretary a letter notification in CC Docket No. 00-257 providing the names of the parties to the transaction, the types of telecommunications services to be provided to the affected subscribers, and the date of the transfer of the subscriber base to the acquiring carrier. The acquiring carrier also shall certify compliance with the requirement to provide advance subscriber notice in accordance with 47 CFR 64.1120(e)(3). In addition, the acquiring carrier shall attach a copy of the notice sent to the affected subscribers. If, subsequent to the filing of the letter notification with the Commission, any material changes to the required information should develop, the acquiring carrier shall file written notification of these changes with the Commission no more than 10 days after the transfer date announced in the prior notification. See 47 CFR 64.1120(e)(1)-(2). (Number of respondents: 75; hours per response: 1 hour; total annual burden: 75 hours). b. Section 64.1120(e)(3), Pre-Transfer Subscriber Notification and Certification to the Commission. Not later than 30 days before the transfer of the affected subscribers from the selling or transferring carrier to the acquiring carrier, the acquiring carrier shall provide written notice to each affected subscriber of the information specified in 47 CFR 64.1120(e)(3). (Number of respondents: 75; hours per response: 5 hours; total annual burden: 75 hours). The information will be used to implement Section 258 of the Communications Act of 1934, as amended. The information will expedite procedures for handling the sale or transfer of subscribers, while adequately protecting consumers. Obligation to respond: Required to obtain or retain benefits.

OMB Control No.: 3060-0298.

Expiration Date: 11/30/2001.

Title: Tariffs (Other Than Tariff Review Plan)—Part 61.

Form No.: N/A.

Respondents: Business or other for-profit.

Estimated Annual Burden: 3000 respondents; 45 hours per response (avg.); 135,000 total annual burden hours (for all collections approved under this control number).

Estimated Annual Reporting and Recordkeeping Cost Burden: $2,161,000.

Frequency of Response: On occasion; Annually, Biennially, Third Party Disclosure.

Description: Sections 201, 202, 203, 204 and 205 of the Communications Act of 1934, as amended, 47 U.S.C. Sections 201, 202, 203, 204 and 205, require that common carriers establish just and reasonable charges, practices and regulations for the services they provide. The schedules containing these charges, practices and regulations must be filed with the Commission which is required to determine whether such schedules are just, reasonable and not unduly discriminatory. Part 61 of the Commission's Rules establishes the procedures for filing tariffs which contain the charges, practices and regulations of the common carriers, supporting economic data and other related documents. The supporting data must also conform to other parts of the Rules such as Parts 36 and 69. Part 61 prescribes the framework for the initial establishment of and subsequent revisions to tariffs. Tariffs that do not conform to Part 61 requirements may be rejected. In addition to tariffs filed with the Commission, carriers may be required to post their schedules or rates and regulations. See 47 CFR 61.72. On April 27, 2001, the Commission released the Seventh Report and Order (i.e., the CLEC Access Order) in CC Docket No. 96-262, which limited the application of the Commission's tariff rules to interstate access services provided by nondominant local exchange carriers (i.e., competitive local exchange carriers (CLECs)). Pursuant to the CLEC Access Order, CLEC access rates that are at or below a benchmark set by the Commission will be presumed to be just and reasonable and may be imposed by tariff. Above the benchmark, CLEC access services will be mandatorily detariffed. The practical effect of the CLEC Access Order is that some CLECs will need to revise their existing tariffs to bring their rates into line with the benchmark. CLECs will need to follow similar procedures on an annual basis for the next three years, as the benchmark declines pursuant to a schedule adopted by the Commission. The information collected through a carrier's tariff is used by the Commission to determine whether the services offered are just and reasonable as the Act requires. The tariffs and any supporting documentation are examined in order to determine if the services are offered in a just and reasonable manner. Obligation to respond: Mandatory.

OMB Control No.: 3060-0789.

Expiration Date: 05/31/2004.

Title: Modified Alternative Plan, CC Docket No. 90-571 Order and Second Further NPRM.

Form No.: N/A.

Respondents: Business or other for-profit.

Estimated Annual Burden: 33 respondents; 42.2 hours per response (avg.); 1394 total annual burden hours (for all collections approved under this control number).

Estimated Annual Reporting and Recordkeeping Cost Burden: $0.

Frequency of Response: On occasion; Third Party Disclosure.

Description: Title IV of the Americans with Disabilities Act of 1990 (ADA) requires each common carrier providing voice transmission services to provide Telecommunications Relay Services (TRS) throughout the area it serves to individuals with hearing and speech disabilities by 1993. The TRS enables customers with hearing or speech disabilities to use the telephone network in ways that are “functionally equivalent” to those used by customers using traditional telephone service. Under the Commission's rules, the TRS must be able to handle all calls normally provided by common carriers, unless those carriers demonstrate the infeasibility of doing so. 47 CFR 64.604(a)(3). The Commission has interpreted “all calls” to include coin sent-paid calls, which are calls made by depositing coins in a standard coin-operated public payphone. Through a series of suspension orders, the Bureau suspended the enforcement of the requirement that carriers provide coin sent-paid calls through the TRS centers since 1993 based on common carriers' representations that it has been technically infeasible to provide the coin sent-paid service through the TRS centers (“coin sent-paid rule”). The last suspension order was set to expire on May 26, 2001. Since 1995, carriers have made payphones accessible to TRS users through an Alternative Plan (“Alternative Plan”). The Alternative Plan enables TRS users to make local relay calls for free and to make toll calls from payphones using calling or prepaid cards at or below the coin call rates. The Alternative Plan also requires carriers to educate TRS users about the alternative payment methods for the TRS users to make relay calls from payphones. Because no technological solution to the coin sent-paid issue appears to be imminent, the Commission issued a Second Further Notice of Proposed Rulemaking (Further Notice) to determine the best plan to make the full range of payphone services available to TRS users. Thus, the Commission sought comment on whether to modify its rules to permit TRS providers to treat coin sent-paid TRS calls in a manner different from all other calls, or to suspend permanently the enforcement of the requirement that TRS be capable of handling any type of call with respect to coin sent-paid calls. Additionally, the Commission sought input on the proposed rule to provide functionally equivalent payphone service to TRS users in order to develop a sound policy on the obligation of TRS providers with respect to coin sent-paid calls. OMB approved the current and the proposed information collections contained in the Further Notice. Following is a listing of the approved current and proposed requirements: a. Letters to TRS Centers. (Number of respondents: 1; hours per response: 4 hours; total annual burden: 4 hours). b. Telephone conversation between industry and non-industry representatives before national and regional meetings sponsored by organizations representing the hearing and speech disability community. (Number of respondents: 1; hours per response: 2 hours; total annual burden: 2 hours). c. Article in CAN's newsletter. (Number of respondents: 1; hours per response: 8 hours; total annual burden: 8 hours). d. Letter to CAN's Members. The Commission proposed to expand this requirement to require that carriers mail to CAN members and member organizations and to TRS centers, a consumer education letter providing instructions on how to make TRS payphone calls and the various options available for payment of these calls. (Number of respondents: 30; hours per response: 4 hours; total annual burden 120 hours). e. Create and Distribute Laminated Cards. The Commission proposed to expand this requirement to require that carriers attend and set up informational booths at local, regional, and national consumer conferences of organizations representing people who are deaf, hard of hearing and speech disabled. At the booths, designees should disseminate educational material, which may include, but not be limited to wallet-size cards with visual characters and text describing how to make relay calls from payphones. (Number of respondents: 30; hours per response: 15 hours; total annual burden: 450 hours). f. Display of Instructions. The Commission proposed to require carriers to place instructions on how to make TRS payphone calls, near or on TTY payphones located in public areas. (number of respondents: 30; hours per response: 15 hours; total annual burden: 450 hours). g. Internet Web Site. The Commission proposed to require carriers to establish an Internet web site for individuals to obtain information about making relay calls from payphones. The web site could illustrate how to make relay calls from payphones, provide information on the cost of such calls, display the consumer education letter and/or provide a video on making relay calls from a payphone. (Number of respondents: 30; hours per response: 4 hours; total annual burden: 120 hours). h. Publication in Directories. The Commission proposed to require carriers to place step-by-step instructions that describe how to make relay calls from payphones in telephone directors. (Number of respondents: 30; hours per response: 4 hours; total annual burden: 120 hours). i. Reports. The Commission proposed to require carriers to file reports with the Commission detailing the steps that have been taken to comply with the consumer education program contained in the final Order. (Number of respondents: 30; hours per response: 4 hours; total annual burden: 120 hours). The purposes of the requirements are to educate TRS users about their ability to make relay calls from payphones, the payment methods available and the rates for the payphone calls. The report will help the Commission assess the effectiveness of the current consumer education programs and determine whether further requirements to educate TRS users about their ability to make relay calls from payphones are warranted. Obligation to respond: Required to obtain or retain benefits.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 01-15902 Filed 6-22-01; 8:45 am]

BILLING CODE 6712-01-P